DEPARTMENT OF THE INTERIOR

Bureau of Land Management

[LLUTG021.14300000.EU0000; UTU-89282]

Notice of Realty Action: Proposed (Non-Competitive) Direct Sale of Public Land in Carbon County, UT

AGENCY: Bureau of Land Management, Interior.

ACTION: Notice of realty action.

SUMMARY: The Bureau of Land Management (BLM) is considering the (non-competitive) direct sale of 280 acres of public land in Carbon County, Utah, at not less than the appraised fair market value to Hunt Consolidated, Inc.

DATES: In order to ensure consideration in the environmental analysis of the proposed sale, comments must be received by March 22, 2013.

ADDRESSES: Address all written comments concerning this notice to the BLM, Price Field Office, Attn: Connie Leschin, 125 S. 600 W., Price, Utah, 84501.

FOR FURTHER INFORMATION CONTACT: Connie Leschin, Realty Specialist, 435-636-3610, at the above address or email to cleschin@blm.gov. Persons who use a telecommunication device for the deaf (TDD) may call the Federal Information Relay Service (FIRS) at 1-800-877-8339 to contact the above individual. The FIRS is available 24 hours a day, 7 days a week, to leave a message or question with the above individual. You will receive a reply during normal business hours.

SUPPLEMENTARY INFORMATION: The following described public lands in Carbon County, Utah, are proposed for direct sale, subject to the applicable provisions of Sections 203 and 209 of the Federal Land Policy and Management Act of 1976 (FLPMA) and 43 CFR Parts 2711 and 2720:

Salt Lake Meridian, Utah

T. 14 S., R. 15 E.,

Sec. 8, SE¼SE¼;

Sec. 28, E½NE¼;

Sec. 33, SE¼SW¼, N½SE¼, SW¼SE¼.

The area described contains 280 acres, according to the official plat of the survey of the said land, on file with the BLM.

The proposed sale is in conformance with the BLM Price Field Office Resource Management Plan (PFO RMP) that was approved in October 2008. The parcels are identified for disposal in the PFO RMP on page 7 of Appendix R-11. The lands would be offered to Hunt Consolidated, Inc. on a non-competitive basis due to the lack of public access and their ownership of the surrounding lands, pursuant to 43 CFR 2711.3-3(a)(4). Conveyance of the identified public land would be subject to valid existing rights and encumbrances of record. Conveyance of any mineral interests pursuant to Section 209 of FLPMA will be analyzed during processing of the proposed sale. On February 5, 2013, the above-described land will be segregated from all forms of appropriation under the public land laws, including the mining laws and the mineral leasing laws, except for the sale provisions of the FLPMA. The lands were previously segregated from appropriation under the mining laws pursuant to Executive Order 5327 and Public Land Order 4522. Executive Order 5327 was revoked by PLO 7725 to the extent that the withdrawn lands were opened to operation of the public land laws and development activities under Section 21 of the Mineral Leasing Act, but not to operation of the 1872 Mining Law. Until completion of the sale action, the BLM is no longer accepting land use applications affecting the identified public lands. The temporary segregation will terminate upon issuance of a patent, publication in the Federal Register of a termination of the segregation, or on February 2, 2015, unless extended by the BLM Utah State Director in accordance with 43 CFR 2711.1-2(d) prior to the termination date.

For a period until March 22, 2013, interested parties and the general public may submit in writing any comments concerning the land being considered for sale, including notification of any encumbrances or other claims relating to the identified land, to the Field Manager, BLM Price Field Office, at the above address. In order to ensure consideration in the environmental analysis of the proposed sale, comments must be in writing and postmarked or delivered within 45 days of the initial date of publication of this notice. Electronic mail (email) will also be accepted and should be sent to BLM_UT_PR_Comments@blm.gov with “Price Land Sale” inserted in the subject line. Comments, including names and street addresses of respondents, will be available for public review at the BLM Price Field Office during regular business hours, except holidays.

Before including your address, telephone number, email address, or other personal identifying information in your comment, be advised that your entire comment—including your personal identifying information—may be made publicly available at any time. While you can ask in your comment to withhold from public review your personal identifying information, we cannot guarantee that we will be able to do so.

Authority: 43 CFR 2711.1-2 and 43 CFR 2720.1-1(b).

Kent Hoffman
Acting State Director.

[FR Doc. 2013-02100 Filed 1-30-13; 8:45 am]

BILLING CODE 4310-DQ-P